DEPARTMENT OF ENERGY

[Docket No. EA-200-A]

Application To Export Electric Energy; American Electric Power Services Corp.

AGENCY: Office of Fossil Energy, DOE.

ACTION: Notice of application.

SUMMARY: American Electric Power Service Corporation (AEPSC) has applied, on behalf of its public utility affiliates, for renewal of its authority to transmit electric energy from the United States to Canada pursuant to section 202(e) of the Federal Power Act.

DATES: Comments, protests or requests to intervene must be submitted on or before May 18, 2001.

ADDRESSES: Comments, protests or requests to intervene should be addressed as follows: Office of Coal & Power Im/Ex (FE-27), Office of Fossil Energy, U.S. Department of Energy, 1000 Independence Avenue, SW, Washington, DC 20585-0350 (FAX 202-287-5736).

FOR FURTHER INFORMATION CONTACT: Xavier Puslowski (Program Office) 202-586-4708 or Michael Skinker (Program Attorney) 202-586-2793.

SUPPLEMENTARY INFORMATION: On April 6, 1999, the Office of Fossil Energy (FE) of the Department of Energy (DOE) issued Order No. EA-200 authorizing five of the AEPSC public utility affiliates to transmit electric energy from the United States to Canada. The entities authorized to export included Appalachian Power Company, Columbus Southern Power Company, Indiana Michigan Power Company, Kentucky Power Company, and Ohio Power Company. These companies were authorized to deliver the exported energy to Canada using the international electric transmission facilities owned and operated by Basin Electric Power Cooperative, Bonneville Power Administration, Citizens Utilities, Detroit Edison, Eastern Maine Electric Cooperative, Joint Owners of the Highgate Project, Inc., Long Sault, Inc., Maine Electric Power Company, Maine Public Service Company, Minnesota Power and Light Co., Inc., Minnkota Power, New York Power Authority, Niagara Mohawk Power Corp., Northern States Power, and Vermont Electric Transmission Company. That two-year authorization expired on April 6, 2001.

On March 23, 2001, AEPSC, on behalf of nine of its public utility affiliates, filed an application with FE for renewal of the export authority contained in Order No. EA-200 for a term of five years and added four more of its public utility affiliates to the list of companies for which export authority is requested. The public utility affiliates for which AEPSC has applied for export authority include: Appalachian Power Company; Columbus Southern Power Company; Indiana Michigan Power Company; Kentucky Power Company; Ohio Power Company; Central Power & Light Company; Public Service Company of Oklahoma; Southwestern Electric Power Company; and West Texas Utilities Company (collectively, the “AEP Operating Companies” or the “Applicants”).

The electric energy which the applicants propose to export to Canada would come from either the surplus generation of the applicants or from purchases on the wholesale market.

Procedural Matters

Any person desiring to become a party to this proceeding or to be heard by filing comments or protests to this application should file a petition to intervene, comment or protest at the address provided above in accordance with §§ 385.211 or 385.214 of the FERC's rules of practice and procedures (18 CFR 385.211, 385.214). Fifteen copies of each petition and protest should be filed with the DOE on or before the date listed above.

Comments on the AEPSC request to export to Canada should be clearly marked with Docket EA-200-A. Additional copies are to be filed directly with, F. Mitchell Dutton, Esq., American Electric Power Service Corporation, 1 Riverside Plaza, 15th Floor, Columbus, Ohio 43215-2373 and John R. Lilyestrom, Esq., Hogan & Hartson, LLP, 555 13th Street, NW, Washington, DC 20004.

DOE notes that the circumstances described in this application are virtually identical to those for which export authority had previously been granted in FE Order No. EA-200. Consequently, DOE believes that it has adequately satisfied its responsibilities under the National Environmental Policy Act of 1969 through the documentation of a categorical exclusion in the FE Docket EA-200 proceeding.

Copies of this application will be made available, upon request, for public inspection and copying at the address provided above or by accessing the Fossil Energy Home Page at http://www.fe.doe.gov. Upon reaching the Fossil Energy Home Page, select “Electricity,” from the Regulatory Info menu, and then “Pending Proceedings” from the options menus.

Issued in Washington, DC, on April 11, 2001.
Anthony J. Como,
Deputy Director, Electric Power Regulation, Office of Coal & Power Im/Ex, Office of Coal & Power Systems, Office of Fossil Energy.

[FR Doc. 01-9579 Filed 4-17-01; 8:45 am]

BILLING CODE 6450-01-P